DEPARTMENT OF HEALTH AND HUMAN SERVICES

Centers for Disease Control and Prevention

[30Day-09-08BP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project: Audience Profiling for Carbon Monoxide Poisoning Prevention Status—New—National Center for Environmental Health (NCEH), Coordinating Center for Environmental Health and Injury Prevention (CCEHIP), Centers for Disease Control and Prevention (CDC).

Background and Brief Description

Carbon monoxide (CO) is one of the leading causes of poison-related deaths in the United States. The Centers for Disease Control and Prevention (CDC) estimates that each year approximately 500 people die of unintentional, nonfire-related CO exposure, and another 15,000 individuals visit emergency rooms for treatment from exposure to CO gas.

Despite our current knowledge of scenarios and products that lead to CO poisoning, questions remain about when and how individuals use CO-emitting products, why they engage in certain risk behaviors, how best to inform them about the CO poisoning, and how receptive they are to existing prevention materials. This study aims to address these questions through assessing the basis for current audience knowledge, attitudes, and practices and, ultimately, strengthen educational materials about CO poisoning prevention.

The study will employ the use of qualitative methods during three phases of data collection. Phase I will consist of eight in-person focus groups among home furnace owners and portable generator owners (n = 64) as well as four telephone interviews with organizations that serve populations at risk for CO poisoning (n = 4). Phase II will consist of analyzing previously collected data on consumer media usage and preferences. Phase III will consist of 16 in-person triad interviews (3 individuals per interview) with home furnace owners and portable generator owners (n = 48) to pretest CO poisoning educational materials.

NCEH will identify individuals for the focus groups and triad interviews using recruiting firms that specialize in the two at-risk populations: (1) Home furnace owners and (2) portable generator owners. Individuals in these two groups will be screened over the telephone by the recruiting firms, and if they meet the eligibility criteria, will be invited to participate in the study. At the end of each focus group and triad interview, NCEH will ask participants to complete a brief exit questionnaire on demographics and media usage.

There is no cost to respondents other than their time. The total estimated burden hours are 276.

Estimated Annualized Burden Hours
Type of respondents | Instrument type | Number of respondents | Number of responses per respondent | Average burden per response (in hours)
Owners of Gas or Oil Burning Household Appliances | Focus Group Screener | 64 | 1 | 10/60
| Focus Group | 32 | 1 | 2
| Exit Questionnaire | 32 | 1 | 10/60
| Triad Screener | 48 | 1 | 10/60
| Triad | 24 | 1 | 2
Owners of Portable Gas Burning Generator | Focus Group Screener | 64 | 1 | 10/60
| Focus Group | 32 | 1 | 2
| Exit Questionnaire | 32 | 1 | 10/60
| Triad Screener | 48 | 1 | 10/60
| Triad | 24 | 1 | 2
Expert | Telephone Interview | 4 | 1 | 1

Dated: February 13, 2009.
Maryam I. Daneshvar,
Acting Reports Clearance Officer, Centers for Disease Control and Prevention.

[FR Doc. E9-3999 Filed 2-24-09; 8:45 am]

BILLING CODE 4163-18-P